DEPARTMENT OF LABOR

Office of the Secretary

Submission for OMB Review; Comment Request

ACTION: Submission for OMB review; comment request.

SUMMARY: The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including, among other things, a description of the likely respondents, proposed frequency of response, and estimated total burden may be obtained from the RegInfo.gov Web site at http://www.reginfo.gov/public/do/PRAMain or by contacting Linda Watts Thomas on 202-693-4223 (this is not a toll-free number) and e-mail mail to: DOL_PRA_PUBLIC@dol.gov.

Interested parties are encouraged to send written comments to the Office of Information and Regulatory Affairs, Attn: OMB Desk Officer for the Department of Labor—Employment and Training Administration (ETA), Room 10235, Washington, DC 20503, Telephone: 202-395-7316/Fax 202-395-5806 (these are not toll-free numbers), E-mail: OIRA_submission@omb.eop.gov within 30 days from the date of this publication in the Federal Register. In order to ensure the appropriate consideration, comments should reference the applicable OMB Control Number (see below).

The OMB is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Agency: Employment and Training Administration.

Type of Review: Extension without change to a currently approved collection.

Title of Collection: Jobs for Veterans Act Priority of Services Provisions.

OMB Control Number: 1205-0468.

Frequency: Quarterly.

Affected Public: Administrators of qualified job training programs, as defined in the Jobs for Veterans Act, section 4215(a)(2), Covered Entrants, and New Covered Participants.

Cost to Federal Government: $800,000.

Total Respondents: 237.

Total Number of Responses: 1,738,419.

Total Burden Hours: 159,429.

Total Hour Burden Cost (operating/maintaining): 0.

Description: The Department of Labor, as part of its continuing effort to reduce paperwork and respondent burden conducts a preclearance consultation program to provide the general public and Federal agencies with an opportunity to comment on proposed and/or continuing collections of information in accordance with the Paperwork Reduction Act of 1995(PRA95) (44 U.S.C. 3506(c)(2)(A)). This program helps to ensure that requested data can be provided in the desired format, reporting burden (time and financial resources) is minimized, collection instruments are clearly understood, and the impact of collection requirements on respondents can be properly assessed. Currently, the Employment and Training Administration is soliciting comments concerning the extension of OMB Control No. 1205-0468, Jobs for Veterans Act, Priority of Service Provisions (currently expires July 31, 2010). For additional information, see related notice published in the Federal Register on April 7, 2010, (Vol. 75, page 17771).

Dated: July 19, 2010.
Linda Watts Thomas,
Acting Departmental Clearance Officer.

[FR Doc. 2010-18461 Filed 7-27-10; 8:45 am]

BILLING CODE 4510-30-P